DEPARTMENT OF ENERGY

(Docket No. EA-234)

Application To Export Electric Energy; Energia de Baja California

AGENCY: Office of Fossil Energy, DOE.

ACTION: Notice of Application.

SUMMARY: Energia de Baja California (EBC) has applied for authority to transmit electric energy from the United States to Mexico pursuant to section 202(e) of the Federal Power Act.

DATES: Comments, protests or requests to intervene must be submitted on or before October 13, 2001.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office) 202-586-9624 or Michael Skinker (Program Attorney) 202-586-6667.

SUPPLEMENTARY INFORMATION: Exports of electricity from the United States to a foreign country are regulated and require authorization under section 202(e) of the Federal Power Act (FPA) (16 U.S.C. 824a(e)).

On August 22, 2001, the Office of Fossil Energy (FE) of the Department of Energy (DOE) received an application from EBC to transmit electric energy from the United States to Mexico. In a related proceeding currently before DOE (FE Docket PP-234), EBC has applied for a Presidential permit to construct, operate, maintain, and connect a new electric transmission facility between San Diego Gas and Electric Company's (SDG&E's) Imperial Valley Substation in Imperial County, California, and a merchant powerplant EBC is proposing to construct in the vicinity of Mexicali, Baja California, Mexico. The electric energy EBC proposes to export to Mexico would be for the purpose of providing start-up and other station use power. Exports from the United States to the EBC plant for these purposes is expected to be less than 17 megawatts.

The electric energy EBC proposes to export to Mexico would be purchased on the open market and delivered to SDG&E's Imperial Valley Substation using the existing domestic transmission system. The exported electricity would be transmitted to Mexico over the facilities proposed in FE Docket PP-234.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the EBC application to export electric energy to Mexico should be clearly marked with Docket EA-234. Additional copies are to be filed directly with Orlando Martinez, Manager, Development, InterGen, Two Alhambra Plaza, Suite 1100, Coral Gables, FL 33134-5202 AND Russell Wood, Hunton & Williams, 1900 K Street, NW, Washington, DC 20006.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation” and then “Pending Proceedings” from the options menus.

Issued in Washington, D.C., on September 6, 2001.
Anthony J. Como,
Deputy Director, Electric Power Regulation, Office of Coal & Power Import/Export, Office of Coal & Power Systems, Office of Fossil Energy.

[FR Doc. 01-22844 Filed 9-11-01; 8:45 am]

BILLING CODE 6450-01-P